DEPARTMENT OF AGRICULTURE

Animal and Plant Health Inspection Service

9 CFR Part 94

[Docket No. 02-089-2]

Availability of a Risk Analysis Evaluating the Exotic Newcastle Disease Status of Denmark

AGENCY: Animal and Plant Health Inspection Service, USDA.

ACTION: Notice of availability and request for comments.

SUMMARY: We are advising the public that a risk analysis has been prepared by the Animal and Plant Health Inspection Service concerning the exotic Newcastle disease status of Denmark, and the related disease risks associated with importing poultry carcasses, parts or products of poultry carcasses, and eggs (other than hatching eggs) of poultry, game, or other birds from Denmark. This evaluation will be used as a basis for determining whether to relieve certain restrictions on the importation of those articles into the United States from Denmark. We are making this evaluation available to the public for review and comment.

DATES: We will consider all comments that we receive on or before July 5, 2005.

ADDRESSES: You may submit comments by either of the following methods:

• EDOCKET: Go to http://www.epa.gov/feddocket to submit or view public comments, access the index listing of the contents of the official public docket, and to access those documents in the public docket that are available electronically. Once you have entered EDOCKET, click on the “View Open APHIS Dockets” link to locate this document.

• Postal Mail/Commercial Delivery: Please send four copies of your comment (an original and three copies) to Docket No. 02-089-2, Regulatory Analysis and Development, PPD, APHIS, Station 3C71, 4700 River Road Unit 118, Riverdale, MD 20737-1238. Please state that your comment refers to Docket No. 02-089-2.

Reading Room: You may read any comments that we receive on the evaluation in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: You may view APHIS documents published in the Federal Register and related information on the Internet at http://www.aphis.usda.gov/ppd/rad/webrepor.html.

FOR FURTHER INFORMATION CONTACT: Dr. Chip Wells, Senior Staff Veterinarian, Regionalization Evaluation Services, National Center for Import and Export, VS, APHIS, 4700 River Road Unit 38, Riverdale, MD 20737-1231; (301) 734-4356.

SUPPLEMENTARY INFORMATION:

Background

The regulations in 9 CFR part 94 (referred to below as the regulations) govern the importation of specified animals and animal products into the United States in order to prevent the introduction of various animal diseases. The regulations in § 94.6 govern, among other things, the importation of poultry carcasses, parts or products of poultry carcasses, and eggs (other than hatching eggs) of poultry, game birds, or other birds from regions where exotic Newcastle disease (END) is considered to exist. END is considered to exist in all regions not listed in § 94.6(a)(2).

Under § 94.6, poultry carcasses, and parts and products of poultry carcasses may be imported into the United States from regions where END exists only if they have been cooked or are consigned directly to an approved establishment in the United States. Eggs (other than hatching eggs) of poultry, game birds, or other birds from regions where END exists may be imported into the United States only if: (1) They are accompanied by a health certificate regarding the flock of origin and meet certain other conditions; (2) they are consigned directly to an approved establishment for breaking and pasteurization; (3) they are imported under permit for scientific, educational, or research purposes; or (4) they are imported under permit and have been cooked or processed and will be handled in a manner that prevents the introduction of END into the United States.

Further, poultry carcasses, parts or products of poultry carcasses, and eggs (other than hatching eggs) of poultry, game birds, or other birds that do not qualify for entry into the United States under one of these conditions may transit the United States via air and sea ports under the conditions set out in § 94.15(d).

In an interim rule effective July 16, 2002, and published in the Federal Register on September 20, 2002 (67 FR 59136-59137, Docket No. 02-089-1), we amended the regulations by removing Denmark from the list of regions considered to be free of END. That action was necessary because END had been confirmed in that region. The effect of the interim rule was to restrict the importation of poultry carcasses, parts or products of poultry carcasses, and eggs (other than hatching eggs) of poultry, game birds, or other birds into the United States from Denmark.

Although we removed Denmark from the list of regions considered free of END, we recognized that Denmark immediately responded to the outbreak of END by imposing restrictions on the movement of poultry and poultry products within its borders and initiating measures to eradicate the disease. We stated that we intended to reassess the situation in the region at a future date, and that as part of that reassessment process, we would consider all comments received regarding the interim rule.

Additionally, we stated that the future assessment would enable us to determine whether it was necessary to continue to restrict the importation of poultry and poultry products from Denmark, whether we could restore Denmark to the list of regions in which END is not known to exist, or whether we could restore portions of Denmark as free of END.

In this notice, we are announcing the availability for review and comment of a document titled “APHIS Risk Analysis on Importation of Exotic Newcastle Disease (END) Virus from Denmark.” This evaluation assesses the END status of Denmark and the related disease risks associated with importing poultry and poultry products into the United States from Denmark. This risk analysis will serve as a basis for our determination whether to relieve certain restrictions on the importation of poulty and poultry products into the United States from Denmark. We are making the risk analysis available for public comment for 60 days.

You may view the document on the APHIS Web site at http://www.aphis.usda.gov/vs/ncie/reg-request.html. At the bottom of that APHIS page, click on “Information previously submitted by Regions requesting export approval and supporting documentation.” At the next screen, click on the triangle beside “European Union/Poultry and Poultry Products/Newcastle Disease,” then click on the triangle beside “Response by APHIS,” which will reveal a link to the risk analysis. You may also view the evaluation in our reading room (information on the location and hours of the reading room is provided under the heading ADDRESSES at the beginning of this notice). You may also request a copy by calling or writing to the person listed under FOR FURTHER INFORMATION CONTACT. Please refer to the title of the evaluation when requesting copies.

Authority: 7 U.S.C. 450, 7701-7772, and 8301-8317; 21 U.S.C. 136 and 136a; 31 U.S.C. 9701; 7 CFR 2.22, 2.80, and 371.4.

Done in Washington, DC, this 29th day of April 2005.
Kevin Shea,
Acting Administrator, Animal and Plant Health Inspection Service.

[FR Doc. 05-8954 Filed 5-4-05; 8:45 am]

BILLING CODE 3410-34-P